FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 31, 2014.

A. Federal Reserve Bank of Richmond (Adam M. Drimer, Assistant Vice President) 701 East Byrd Street, Richmond, Virginia 23261-4528:

1. Donald Edwards Willis, Cowpens, South Carolina, to acquire additional voting shares of First South Bancorp, Inc., and thereby indirectly acquire First South Bank, both of Spartanburg, South Carolina

B. Federal Reserve Bank of Kansas City (Dennis Denney, Assistant Vice President) 1 Memorial Drive, Kansas City, Missouri 64198-0001:

1. James Clark Shouse, Dallas, Texas, to acquire voting shares of The George Madison Corporation, and thereby indirectly acquire First National Bank, both of Pawnee, Pawnee, Oklahoma.

Board of Governors of the Federal Reserve System, March 11, 2014.
Michael J. Lewandowski,
Associate Secretary of the Board.

[FR Doc. 2014-05656 Filed 3-13-14; 8:45 am]

BILLING CODE 6210-01-P